DEPARTMENT OF THE INTERIOR

National Park Service

National Register of Historic Places; Notification of Pending Nominations and Related Actions

Nominations for the following properties being considered for listing or related actions in the National Register were received by the National Park Service before July 9, 2005.

Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by August 10, 2005.

John W. Roberts,
Acting Chief, National Register/National Historic Landmarks Program.

ARIZONA

Apache County

Sherwood Ranch Pueblo, Address Restricted, Springerville, 05000887

MISSOURI

Boone County

McCain Furniture Store, (Columbia MRA) 916 E. Walnut, Columbia, 05000890

Jackson County

Argyle Building, 306 E. 12th St., Kansas City, 05000891

Lee's Summit Downtown Historic District, (Lee's Summit, Missouri MPS) Roughly bounded by Second St., Douglas St., Fourth St., and Market St., Lee's Summit, 05000889

TEXAS

Rusk County

Crim, Elias and Mattie, House, 310 E. Main St., Henderson, 05000892

Travis County

Roy—Hardin House, 1903 Evergreen Ave., Austin, 05000893

VIRGINIA

Newport News Independent City

Newport News Public Library, 2907 West Ave., Newport News (Independent City), 05000894

Norfolk Independent City

Norfolk Azalea Garden, 6700 Azalea Garden Rd., Norfolk (Independent City), 05000895

Richmond Independent City

Scott's Addition Historic District, Roughly bounded by Cutshaw Ave, Boulevard, and the Richmond Fredericksburg and Potomac RR, Richmond (Independent City), 05000896

[FR Doc. 05-14639 Filed 7-25-05; 8:45 am]

BILLING CODE 4312-51-P